ENVIRONMENTAL PROTECTION AGENCY

40 CFR Part 52

[EPA-R01-OAR-2020-0029; FRL-10007-63-Region 1]

Air Plan Approval; New Hampshire; Approval of Single Source Order; Withdrawal of Direct Final Rule

AGENCY: Environmental Protection Agency (EPA).

ACTION: Withdrawal of direct final rule.

SUMMARY: Due to the receipt of an adverse comment, the Environmental Protection Agency (EPA) is withdrawing the February 14, 2020 direct final rule approving a State Implementation Plan (SIP) revision submitted by the State of New Hampshire. New Hampshire's SIP revision established an Order reducing emissions of volatile organic chemicals from PSI Molded Plastics. This action is being taken in accordance with the Clean Air Act.

DATES: The direct final rule published at 85 FR 8408 on February 14, 2020 is withdrawn effective April 10, 2020.

FOR FURTHER INFORMATION CONTACT: Bob McConnell, Environmental Engineer, Air and Radiation Division (Mail Code 05-2), U.S. Environmental Protection Agency, Region 1, 5 Post Office Square, Suite 100, Boston, Massachusetts 02109-3912; (617) 918-1046. mcconnell.robert@epa.gov.

SUPPLEMENTARY INFORMATION: In the direct final rule, EPA stated that if adverse comments were submitted by March 16, 2020, the rule would be withdrawn and not take effect. EPA received an adverse comment prior to the close of the comment period and, therefore, is withdrawing the direct final rule. EPA will address the comment in a subsequent final action based upon the proposed rule also published on February 14, 2020 (85 FR 8520). EPA will not institute a second comment period on this action.

List of Subjects in 40 CFR Part 52

Environmental protection, Air pollution control, Incorporation by reference, Ozone, Reporting and recordkeeping requirements, Volatile organic compounds.

Dated: March 30, 2020.
Dennis Deziel,
Regional Administrator, EPA Region 1.

PART 52—APPROVAL AND PROMULGATION OF IMPLEMENTATION PLANS

Accordingly, the amendments to 40 CFR 52.1520 published on February 14, 2020 (85 FR 8408), are withdrawn effective April 10, 2020.

[FR Doc. 2020-06994 Filed 4-9-20; 8:45 am]

BILLING CODE 6560-50-P